DEPARTMENT OF JUSTICE

Antitrust Division

Notice Pursuant to the National Cooperative Research and Production Act of 1993—Naval Surface Technology & Innovation Consortium

Notice is hereby given that, on October 10, 2024, pursuant to section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances.

Specifically, ACP Technologies LLC, St. Clair Shores, MI; Advanced Fiber Sensors, Inc., Ann Arbor, MI; AISensation LLC, Mission Viejo, CA; AIVOT Robotics, Inc., Seattle, WA; Applied Intuition Government, Inc., Arlington, VA; Archarithms, Inc., Huntsville, AL; Arimon Technologies, Inc., Montello, WI; Atlas Technologies, Inc., North Charleston, SC; Bishop Ascendant, Inc., Caldwell, NJ; BlueSky Mast, Inc., Largo, FL; Brixtel Defense, LLC, Glendive, MT; Carbon-Carbon Advanced Technologies, Inc., Arlington, TX; Cardinal Engineering, LLC, Washington, DC; Carnegie Mellon University, Pittsburgh, PA; CPI Satcom & Antenna Technologies Inc., Plano, TX; Custom Microwave Inc., A Vitesse Systems Company, Longmont, CO; Data Intelligence, LLC, Marlton, NJ; Datalytica LLC, Laurel, MD; Eiden Systems Corporation, Charlottesville, VA; Episensors, Inc., Bolingbrook, IL; Fiber Materials Inc., Biddeford, ME; Fuse Integration, Inc., San Diego, CA; Future Technologies, Inc., Fairfax, VA; George Mason University, Fairfax, VA; Hanwha Defense USA, Inc., McLean, VA; Invocon, Inc., Conroe, TX; Iridium Satellite LLC, McLean, VA; Kondor Engineering, Charlottesville, VA; Kratos SRE, Birmingham, AL; L3Harris Technologies, Inc., Clifton, NJ; Laser Welding Solutions, LLC, Houston, TX; Nexagen Networks, Inc., Wall Township, NJ; Nokia of America Corporation, Murray Hill, NJ; NWI Defense LLC, Albany, OR; Obsidian Global, LLC, Washington, DC; Photonis Defense, Lancaster, PA; Poplicus, Inc. DBA Govini, Arlington, VA; Quantum Research International, Inc., Huntsville, AL; Raft LLC, Reston, VA; Safire Technology Group, Inc., McLean, VA; Sev1Tech, LLC, Woodbridge, VA; Spear AI, Inc., Washington, DC; Spectral Energies, LLC, Beavercreek, OH; Spectral Labs Incorporated, San Diego, CA; SPOC Proteomics, Inc., Scottsdale, AZ; St Jardins, Inc., Brambleton, VA; Systems Innovation Engineering LLC, Mullica Hill, NJ; TB2 Aerospace LLC, Golden, CO; The Mason & Hanger Group Inc., Lexington, KY; Triton Systems, Inc., Chelmsford, MA; University of Dayton, Dayton, OH; and World Wide Technology, LLC, St. Louis, MO, have been added as parties to this venture.

Also, Reservoir Labs, Inc., New York, NY, has withdrawn as a party to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on July 8, 2024. A notice was published in the Federal Register pursuant to section 6(b) of the Act on September 26, 2024 (89 FR 78901).

Suzanne Morris,
Deputy Director Civil Enforcement Operations, Antitrust Division.

[FR Doc. 2024-30424 Filed 12-19-24; 8:45 am]

BILLING CODE P